DEPARTMENT OF LABOR

Mine Safety and Health Administration

Petitions for Modification of Application of Existing Mandatory Safety Standards

AGENCY: Mine Safety and Health Administration (MSHA), Labor.

ACTION: Notice of Withdrawal.

SUMMARY: Section 101(c) of the Federal Mine Safety and Health Act of 1977 and 30 CFR part 44 govern the application, processing, and disposition of petitions for modification. This notice is to withdraw a petition for modification for the Speed Mining, Inc., American Eagle Mine, MSHA I.D. No. 46-05437. MSHA published a notice in the Federal Register on January 14, 2011 (76 FR 2725).

FOR FURTHER INFORMATION CONTACT: Barbara Barron, Office of Standards, Regulations and Variances at 202-693-9447 (voice), barron.barbara@dol.gov (e-mail), or 202-693-9441 (telefax). (These are not toll-free numbers.)

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification. However, petitioner requested a modification of 30 CFR 75.1403-5(g), which is a safeguard and is within the authority of an Authorized Representative of the Secretary to prescribe or modify. See 30 CFR 75.1403-1. Therefore, the Speed Mining, Inc., American Eagle Mine, MSHA I.D. No. 46-05437, Petition for Modification is withdrawn.

Dated: April 12, 2011.
Patricia W. Silvey,
Certifying Officer.

[FR Doc. 2011-9194 Filed 4-19-11; 8:45 am]

BILLING CODE 4510-43-P